DEPARTMENT OF HEALTH AND HUMAN SERVICES

Centers for Disease Control and Prevention

Advisory Committee on Immunization Practices (ACIP)

In accordance with section 10(a)(2) of the Federal Advisory Committee Act (Pub. L. 92-463), the Centers for Disease Control and Prevention (CDC), announces the following meeting of the aforementioned committee:

Times and Dates: 8 a.m.-6 p.m., October 27, 2010; 8 a.m.-5 p.m., October 28, 2010.

Place: CDC, Tom Harkin Global Communications Center, 1600 Clifton Road, NE., Building 19, Kent “Oz” Nelson Auditorium, Atlanta, Georgia 30333.

Status: Open to the public, limited only by the space available.

Purpose: The committee is charged with advising the Director, CDC, on the appropriate uses of immunizing agents. In addition, under 42 U.S.C. 1396s, the committee is mandated to establish and periodically review and, as appropriate, revise the list of vaccines for administration to vaccine-eligible children through the Vaccines for Children (VFC) program, along with schedules regarding the appropriate periodicity, dosage, and contraindications applicable to the vaccines.

Matters To Be Discussed: The agenda will include discussions on: Evidence based recommendations; Human Papillomavirus (HPV) vaccines; Meningococcal vaccine; Hepatitis vaccines; vaccine supply update; RSV Immunoprophylaxis; Rotavirus vaccines; Pertussis vaccine; Influenza vaccines; the 2011 Immunization Schedule for adults, children & adolescents; and the Herpes Zoster vaccine. Agenda items are subject to change as priorities dictate.

Contact Person for More Information: Leola Mitchell, National Center for Immunization and Respiratory Diseases, CDC, 1600 Clifton Road, NE., Mailstop E-05, Atlanta, Georgia 30333, Telephone (404) 639-8836, Fax (404) 639-8905. The Director, Management Analysis and Services Office, has been delegated the authority to sign Federal Register notices pertaining to announcements of meetings and other committee management activities for both the CDC and Agency for Toxic Substances and Disease Registry.

Dated: September 27, 2010.
Elaine Baker,
Director, Management Analysis and Services Office, Centers for Disease Control and Prevention.

[FR Doc. 2010-25012 Filed 10-4-10; 8:45 am]

BILLING CODE 4160-18-P